DEPARTMENT OF THE TREASURY

Submission for OMB Review; Comment Request

September 27, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before November 2, 2006 to be assured of consideration.

Internal Revenue Service (IRS)

OMB Number: 1545-1181.

Type of Review: Extension.

Title: Required Payment or Refund Under Section 7519.

Forms: 8752.

Description: This form is used to verify that partnerships and S corporations that have made a section 444 election have correctly reported the payment required under section 7519.

Respondents: Business or other for profit institutions.

Estimated Total Burden Hours: 565,920 hours.

OMB Number: 1545-2017.

Type of Review: Extension.

Title: Notice 2006-46 Announcement of Rules to be included in Final Regulations under Section 897(d) and (e) of the Internal Revenue Code.

Description: Final regulations were issued on January 23, 2006 permitting transactions effected under the statute of a foreign jurisdiction or a U.S. possession to qualify as a statutory merger or consolidation for purposes of section 368(a)(1)(A). The filing requirements require the corporate transferor notify the IRS of the transfer. The information provided will be used on audit by revenue agents to verify that the transferor qualified for nonrecognition and that the transferee will be subject to tax of a subsequent disposition of the transferred USRPI.

Respondents: Business or other for profit institutions.

Estimated Total Burden Hours: 500 hours.

OMB Number: 1545-0390.

Type of Review: Extension.

Title: Application for Approval of Prototype or Employer Sponsored Individual Retirement Account.

Forms: 5306.

Description: This application is used by employers who want to establish an individual retirement account trust to be used by their employees. The application is also used by persons who want to establish approved prototype individual retirement accounts or annuities. The data collected is used to determine if plans may be approved.

Respondents: Business or other for profit institutions.

Estimated Total Burden Hours: 7,878 hours.

OMB Number: 1545-0390.

Type of Review: Extension.

Title: Application for Approval of Prototype or Employer Sponsored Individual Retirement Account.

Forms: 5306.

Description: This application is used by employers who want to establish an individual retirement account trust to be used by their employees. The application is also used by persons who want to establish approved prototype individual retirement accounts or annuities. The data collected is used to determine if plans may be approved.

Respondents: Business or other for profit institutions.

Estimated Total Burden Hours: 7,878 hours.

Clearance Officer: Glenn P. Kirkland (202) 622-3428, Internal Revenue Service, Room 6516, 1111 Constitution Avenue, NW., Washington, DC 20224.

OMB Reviewer: Alexander T. Hunt (202) 395-7316, Office of Management and Budget, Room 10235, New Executive Office Building, Washington, DC 20503.

Robert Dahl,
Treasury PRA Clearance Officer.

[FR Doc. E6-16255 Filed 10-2-06; 8:45 am]

BILLING CODE 4830-01-P